ELECTION ASSISTANCE COMMISSION

Agency Information Collection Activities; Help America Vote College Program Application Kits

AGENCY: U.S. Election Assistance Commission (EAC).

ACTION: Notice; request for comment.

SUMMARY: As part of its continuing effort to reduce paperwork burdens, and as required by the Paperwork Reduction Act of 1995 (PRA), the U.S. Election Assistance Commission (EAC) gives notice that it is requesting from the Office of Management and Budget (OMB) approval for the information collection EAC Help America Vote College Program (HAVCP) Poll Worker and Service Day Mini-grant Program Applications.

DATES: Comments must be received by 5 p.m. Eastern on Monday, November 6, 2023.

ADDRESSES: To view the proposed EAC HAVCP application forms and reporting instruments, see: https://www.eac.gov/grants/help-america-vote-college-program. For information on the Application kits, contact Tina Bateman, Office of Grants Management, Election Assistance Commission, HAVCP@eac.gov. All requests and submissions should be identified by the title of the information collection.

Written comments and recommendations for the proposed information collection should be sent to www.reginfo.gov/public/do/PRAMain. Find this particular information collection by selecting “Currently under 30-day Review—Open for Public Comments” or by using the search function.

SUPPLEMENTARY INFORMATION:

Previously filed under Title and OMB Number: Help America Vote College Program Application Kit; 88 FR 47133 (Page: 47133-47134; Document Number: 2023-15506).

Purpose

This proposed information collection was previously published in the Federal Register on July 21, 2023 and allowed 60 days for public comment as described above. The purpose of this notice is to allow 30 days for public comment from all interested individuals and organizations. In compliance with section 3507(a)(1)(D) of the Paperwork Reduction Act (PRA) of 1995, EAC has submitted to the Office of Management and Budget (OMB) a request for review and approval of the information collection listed below. The purpose of this notice is to allow an additional 30 days for public comment from all interested individuals and organizations.

The EAC Office of Grants Management (EAC/OGM) is responsible for distributing, monitoring and providing technical assistance to states and grantees on the use of federal funds. EAC/OGM also reports on how the funds are spent to Congress, negotiates indirect cost rates with grantees, and resolves audit findings on the use of Help America Vote Act of 2002 (HAVA) funds.

The U.S. Election Assistance Commission (EAC) anticipates the availability of $1 million dollars in discretionary grant funding to support the Help America Vote College Program (HAVCP). The HAVCP grant competition is split into two separate grant programs: the HAVCP Poll Worker Grant and the HAVCP Service Day Mini-Grant. Applicant organizations may only apply for one of the two programs. The purpose of the HAVCP Poll Worker Grant is to encourage college students to assist state and local governments in the administration of elections by serving as nonpartisan poll workers or assistants, and to encourage jurisdictions to utilize these efforts. The purpose of the HAVCP Service Day Mini-Grant is to elevate civic participation on college campuses through a day of service and inspire college students to volunteer their time and talents to ensure safe, secure, accessible, and transparent elections. Each program within the EAC Help America Vote College Program has a tailored set of application packages and progress reports based on the needs and aims of the program. A list of documents covered in this information collection for each program is included below.

Poll Worker Grant Program

• HAVCP Poll Worker Application Form and Guidance

• HAVCP Poll Worker Budget Worksheet and Guidance

• HAVCP Poll Worker Progress Report

Service Day Mini-Grant Program

• HAVCP Service Day Mini-Grant Application Form and Guidance

• HAVCP Service Day Mini-Grant Progress Report

These application packages provide the instruments necessary to collect competitive applications with program-specific information necessary for the College Program. Supporting guidance and instructions are included as applicant resources and to reduce the administrative burden of applying for federal funds.

Public Comments

We are soliciting public comments to permit the EAC to:

• Evaluate whether the proposed information collection is necessary for the proper functions of the Office of Grants Management.

• Evaluate the accuracy of our estimate of burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

OMB approval is requested for 3 years.

Respondents: Eligible applicants and relevant stakeholders: Public and Private Institutions of Higher Education (including Community Colleges), State and Local Election Offices, Non-Profit Organizations, and College Students.

Annual Reporting Burden

Annual Burden Estimates
EAC grant | Instrument | Total number of respondents | Total number of responses per year | Average burden hours per response | Annual burden hours
HAVCP Poll Worker Grant | Application and Guidance | 50 | 1 | 10 | 500
HAVCP Poll Worker Grant | Budget Worksheet and Instructions | 50 | 1 | 7 | 350
HAVCP Poll Worker Grant | Progress Report | 20 | 2 | 1 | 40
HAVCP Service Day Mini-Grant | Application and Guidance | 40 | 1 | 5 | 200
HAVCP Service Day Mini-Grant | Progress Report | 20 | 1 | 1 | 20
Total |  |  |  |  | 1,110

The estimated cost of the annualized cost of this burden is: $26,762.10, which is calculated by taking the annualized burden (1,110 hours) and multiplying by an hourly rate of $24.11 (GS-8/Step 5 hourly basic rate).

Camden Kelliher,
Deputy General Counsel, U.S. Election Assistance Commission.

[FR Doc. 2023-22403 Filed 10-6-23; 8:45 am]

BILLING CODE 4810-71-P